DEPARTMENT OF AGRICULTURE

Grain Inspection, Packers and Stockyards Administration

Proposed Posting, Posting, and Deposting of Stockyards

AGENCY: Grain Inspection, Packers and Stockyards Administration, USDA.

ACTION: Notice and request for comments.

SUMMARY: We propose to post one stockyard. We have received information that the stockyard meets the definition of a stockyard under the Packers and Stockyards Act and, therefore, needs to be posted. Posted stockyards are subject to the provisions of the Packers and Stockyards Act. We have posted seven stockyards. We determined that the stockyards meet the definition of a stockyard under the Packers and Stockyards Act and, therefore, have been posted. Four facilities, for which notices of proposed posting were announced, were not posted because they no longer meet the definition of a stockyard. These facilities were either abandoned or underwent a change so they no longer function as a stockyard. We are also deposting four stockyards. These facilities can no longer be used as a stockyard and, therefore, are no longer required to be posted.

DATES: For the proposed posting of stockyards, we will consider comments that we receive by July 5, 2006.

For the deposted stockyards, the deposting is effective on June 19, 2006.

ADDRESSES: We invite you to submit comments on this notice. You may submit comments by any of the following methods:

• E-Mail: Send comments via electronic mail to comments.gipsa@usda.gov.

• Mail: Send hardcopy written comments to Tess Butler, GIPSA, USDA, 1400 Independence Avenue, SW., Room 1647-S, Washington, DC 20250-3604.

• Fax: Send comments by facsimile transmission to: (202) 690-2755.

• Hand Delivery or Courier: Deliver comments to: Tess Butler, GIPSA, USDA, 1400 Independence Avenue, SW., Room 1647-S, Washington, DC 20250-3604.

SUPPLEMENTARY INFORMATION: The Grain Inspection, Packers and Stockyards Administration (GIPSA) administers and enforces the Packers and Stockyards Act of 1921, as amended and supplemented (7 U.S.C. 181—229) (P&S Act). The P&S Act prohibits unfair, deceptive, and fraudulent practices by livestock market agencies, dealers, stockyard owners, meat packers, swine contractors, and live poultry dealers in the livestock, poultry, and meatpacking industries.

Section 302 of the P&S Act (7 U.S.C. 202) defines the term “stockyard” as follows: any place, establishment, or facility commonly known as stockyards, conducted, operated, or managed for profit or nonprofit as a public market for livestock producers, feeders, market agencies, and buyers, consisting of pens, or other inclosures, and their appurtenances, in which live cattle, sheep, swine, horses, mules, or goats are received, held, or kept for sale or shipment in commerce.

Section 302 (b) of the P&S Act requires the Secretary to determine which stockyards meet this definition, and to notify the owner of the stockyard and the public of that determination by posting a notice in each designated stockyard. After giving notice to the stockyard owner and to the public, the stockyard will be subject to the provisions of Title III of the P&S Act (7 U.S.C. 201-203 and 205-217a) until the Secretary deposts the stockyard by public notice.

This document notifies the stockyard owners and the public that the following stockyard meets the definition of stockyard and that we propose to designate the stockyard as a posted stockyard.

Facility No. | Stockyard name and location
KY-179 | Steve Newman d.b.a. Steve Newman Horse Auctions, Powderly, Kentucky.

This document also notifies the public that the following stockyards meet the definition of stockyard and that we have posted the stockyards. We published notices proposing to post these 7 stockyards on July 6, 2004 and July 25, 2005 (69 FR 40597 and 70 FR 42532, respectively). We received no comments in response to these proposed posting notices. To post a stockyard, we assign the stockyard a facility number, notify the owner of the stockyard facility, and send notices to the owner of the stockyard to post on display in public areas of the stockyard. The date of posting is the date on which the posting notices are physically displayed.

Facility No. | Stockyard name and location | Date of posting
AL-192 | Mid State Stockyards, L.L.P., Letohatchee, Alabama | October 4, 2005.
KS-208 | Wakarusa Sale Barn, Wakarusa, Kansas | April 21, 2006.
MS-175 | West Point Stockyard, West Point, Mississippi | June 13, 2005.
NY-175 | Welch Livestock Market, Inc., West Edmeston, New York | May 2, 2006.
OK-214 | Evans Auction Co., Ada, Oklahoma | August 9, 2005.
SC-160 | Martin & Martin Cattle, Inc., Williamston, South Carolina | September 2, 2005.
TX-347 | Tri-County Commission Company, Santo, Texas | March 20, 2006.

This document also notifies the public that the following stockyards, which previously met the definition of a stockyard, were not posted. We published notices proposing to post these 4 stockyards on July 24, 1997, July 6, 2004, and July 25, 2005 (62 FR 39805, 69 FR 40597, and 70 FR 42532, respectively). The facilities were not posted because they no longer meet the definition of a stockyard. The facilities were either abandoned or underwent a change so that they no longer function as a stockyard.

Facility No. | Stockyard name and location
KY-178 | WigWam Livestock Market, Inc., Horse Cave, Kentucky.
MS-170 | Alcorn County Stockyard, Corinth, Mississippi.
SC-161 | Highway 34 Auction Barn, Lugoff, South Carolina.
TN-194 | Starr Mountain Auction, Etowah, Tennessee.

Additionally, this document notifies the public that the following four stockyards no longer meet the definition of stockyard and that we are deposting the facilities. We depost a stockyard when the facility can no longer be used as a stockyard. Some of the reasons a facility can no longer be used as a stockyard include: The facility has been moved and the posted facility is abandoned, the facility has been torn down or otherwise destroyed, such as by fire, the facility is dilapidated beyond repair, or the facility has been converted and its function changed.

Facility No. | Stockyard name and location | Date posted
AL-118 | J.R. Lushington d.b.a. Coffee Country Stockyard, Elba, Alabama | July 10, 1959.
AR-105 | Buddy Guyot d.b.a. Beebe Livestock Auction, Beebe, Arkansas | February 16, 1959.
KY-119 | Wigwam Hog and Feeder Pig Market, Inc., Horse Cave, Kentucky | October 22, 1969.
OR-115 | Rogue Valley Livestock Auction Co., Eagle Point, Oregon | September 30, 1959.

Effective Date

This deposting is effective upon publication in the Federal Register because it relieves a restriction and, therefore, may be made effective in less than 30 days after publication in the Federal Register without prior notice or other public procedure.

Authority: 7 U.S.C. 202.

James E. Link,
Administrator, Grain Inspection, Packers and Stockyards Administration.

[FR Doc. E6-9587 Filed 6-16-06; 8:45 am]

BILLING CODE 3410-EN-P